COMMITTEE FOR THE IMPLEMENTATION OF TEXTILE AGREEMENTS

Designation under the Textile and Apparel Commercial Availability Provision of the U.S. - Caribbean Basin Trade Partnership Act (CBTPA)

May 24, 2005.

AGENCY: The Committee for the Implementation of Textile Agreements (CITA).

ACTION: Designation.

EFFECTIVE DATE: May 27, 2005.

SUMMARY: CITA has determined that certain colored, open-end spun yarns, ranging in size from 6/1 to 18/1 English count (10.16/1 to 30.47/1 metric) of a blend of reclaimed and reprocessed cotton and not less than 35 percent nor more than 49 percent by weight of Outlast licensed phase change acrylic staple fibers, produced under license from Outlast, classified in subheadings 5206.11.00.00 and 5206.12.00.00 of the Harmonized Tariff Schedule of the United States (HTSUS), for use in chief weight cotton sweaters, cannot be supplied by the domestic industry in commercial quantities in a timely manner under the CBTPA. CITA hereby designates chief weight cotton sweaters, made from knit fabrics formed in the United States or an eligible beneficiary CBTPA country from such yarns, that are both cut and sewn or otherwise assembled in one or more eligible CBTPA beneficiary country as eligible to enter free of quotas and duties under HTSUS subheading 9820.11.27, provided all other yarns used in the referenced apparel articles are U.S. formed and all other fabrics used in the referenced apparel articles are U.S. formed from yarns wholly formed in the United States.

FOR FURTHER INFORMATION CONTACT: Janet Heinzen, Office of Textiles and Apparel, U.S. Department of Commerce, (202)482-3400.

SUPPLEMENTARY INFORMATION:

Authority: Section 211(a) of the CBTPA, amending Section 213(b)(2)(A)(v)(II) of the Caribbean Basin Recovery Act (CBERA); Executive Order No. 13191 of January 17, 2001; Presidential Proclamation 7351 of October 2, 2000.

Background

The commercial availability provision of the CBTPA provides for duty-free and quota-free treatment for apparel articles that are both cut (or knit-to-shape) and sewn or otherwise assembled in one or more beneficiary countries from fabric or yarn that is not formed in the United States if it has been determined that such yarns or fabrics cannot be supplied by the domestic industry in commercial quantities in a timely manner and certain procedural requirements have been met. In Presidential Proclamation 7351, the President proclaimed that this treatment would apply to such apparel articles from fabrics or yarns designated by the appropriate U.S. government authority in the Federal Register. In Executive Order No. 13191, the President authorized CITA to determine whether yarns or fabrics cannot be supplied by the domestic industry in commercial quantities in a timely manner.

On January 14, 2005, CITA received a request alleging that certain colored, open end spun yarns, of a blend of reclaimed and reprocessed cotton and not less than 35 percent nor more than 49 percent by weight of Outlast licensed phase change acrylic staple fibers, described above, for use in chief weight cotton sweaters, cannot be supplied by the domestic industry in commercial quantities in a timely manner under the CBTPA. It requested that such apparel articles, made from knit fabrics formed in the United States or an eligible beneficiary CBTPA country of such yarns, be eligible for preferential treatment under the CBTPA. On January 25, 2005, CITA requested public comment on the petition. See Request for Public Comments on Commercial Availability Petition under the United States - Caribbean Basin Trade Partnership Act (CBTPA) (70 FR 3251, published on January 25, 2005). On February 10, 2005, CITA and the U.S. Trade Representative (USTR) sought the advice of the Industry Trade Advisory Committee for Textiles and Clothing and the Industry Trade Advisory Committee for Distribution Services. On February 10, 2005, CITA and USTR offered to hold consultations with the Committee on Ways and Means of the House of Representatives and the Committee on Finance of the Senate (collectively, the Congressional Committees). On February 25, 2005, the U.S. International Trade Commission provided advice on the request.

Based on the information and advice received and its understanding of the industry, CITA determined that the yarns set forth in the request cannot be supplied by the domestic industry in commercial quantities in a timely manner. On March 15, 2005, CITA and USTR submitted a report to the Congressional Committees that set forth the action proposed, the reasons for such action, and advice obtained. A period of 60 calendar days since this report was submitted has expired, as required by the CBTPA.

CITA hereby designates chief weight cotton sweaters that are both cut and sewn or otherwise assembled in one or more eligible beneficiary CBTPA beneficiary country, from knit fabrics formed in the United States or a beneficiary CBTPA country, from the yarns specified below, as eligible to enter free of quotas and duties under HTSUS subheading 9820.11.27, provided all other yarns used in the referenced apparel articles are U.S. formed and all other fabrics used in the referenced apparel articles are U.S. formed from yarns wholly formed in the United States, subject to the special rules for findings and trimmings, certain interlinings and de minimis fibers and yarns under section 211(vii) of the CBTPA, and that such articles are imported directly into the customs territory of the United States from an eligible CBTPA beneficiary country. The knit fabric used in the chief weight cotton sweaters is made from colored, open-end spun yarns, ranging in size from 6/1 to 18/1 English count (10.16/1 to 30.47/1 metric) of a blend of reclaimed and reprocessed cotton and not less than 35 percent nor more than 49 percent by weight of Outlast licensed phase change acrylic staple fibers, produced under license from Outlast, classified in HTSUS subheadings 5206.11.0000 and 5206.12.0000.

An “eligible CBTPA beneficiary country” means a country which the President has designated as a CBTPA beneficiary country under section 213(b)(5)(B) of the CBERA (19 U.S.C. 2703(b)(5)(B)), and which has been the subject of a finding, published in the Federal Register, that the country has satisfied the requirements of section 213(b)(4)(A)(ii) of the CBERA (19 U.S.C. 2703(b)(4)(A)(ii)), and resulting in the enumeration of such country in U.S. note 1 to subchapter XX of Chapter 98 of the HTSUS.

James C. Leonard III,
Chairman, Committee for the Implementation of Textile Agreements.

[FR Doc. E5-2706 Filed 5-26-05; 8:45 am]

BILLING CODE 3510-DS-S